DEPARTMENT OF VETERANS AFFAIRS

[OMB Control No. 2900-0567]

Information Collection Activity: (Presidential Memorial Certificate Form)

AGENCY: National Cemetery Administration, Department of Veterans Affairs.

ACTION: Notice.

SUMMARY: The National Cemetery Administration (NCA), Department of Veterans Affairs (VA), is announcing an opportunity for public comment on the proposed collection of certain information by the agency. Under the Paperwork Reduction Act (PRA) of 1995, Federal agencies are required to publish notice in the Federal Register concerning each proposed collection of information, including each revised collection allow 60 days for public comment in response to the notice.

DATES: Written comments and recommendations on the proposed collection of information should be received on or before March 20, 2017.

ADDRESSES: Submit written comments on the collection of information through Federal Docket Management System (FDMS) at www.Regulations.gov or to Willie Lewis, National Cemetery Administration (43D), Department of Veterans Affairs, 810 Vermont Avenue NW., Washington, DC 20420; or email: willie.lewis@va.gov. Please refer to “OMB Control No. 2900-0567” in any correspondence. During the comment period, comments may be viewed online through the FDMS.

FOR FURTHER INFORMATION CONTACT: Willie Lewis at (202) 461-4242 or FAX (202) 501-2240.

SUPPLEMENTARY INFORMATION: Under the PRA of 1995 (Pub. L. 104-13; 44 U.S.C. 3501-21), Federal agencies must obtain approval from the Office of Management and Budget (OMB) for each collection of information they conduct or sponsor. This request for comment is being made pursuant to Section 3506(c)(2)(A) of the PRA.

With respect to the following collection of information, NCA invites comments on:

(1) Whether the proposed collection of information is necessary for the proper performance of NCA's functions, including whether the information will have practical utility; (2) the accuracy of NCA's estimate of the burden of the proposed collection of information; (3) ways to enhance the quality, utility, and clarity of the information to be collected; and (4) ways to minimize the burden of the collection of information on respondents, including through the use of automated collection techniques or the use of other forms of information technology.

Title: Presidential Memorial Certificate Form VA form 40-0247.

OMB Control Number: 2900-0567.

Type of Review: Revision of a currently approved collection.

Abstract: The National Cemetery Administration (NCA) made updates to its current VA Form 40-0247. The original VA Form 40-0247 is for requests for initial copies of a Presidential Memorial Certificates (PMC's). The updates to the form would include the following changes with no additional respondent burden:

○ Format changes

○ SSN or Military Service Number from Discharge Documents

○ Mailing address, email address, telephone and fax number updates

○ Wording changed to allow the public to also use the form for first time requests

Upon appropriate approval, the NCA Web site will display the updated version of the VA Form 40-0247 for public use.

Affected Public: Individuals or Households.

Estimated Annual Burden: 7,200 hours.

Estimated Average Burden per Respondent: 3 minutes each.

Frequency of Response: One-time.

Estimated Number of Respondents: 125,000.

By direction of the Secretary.
Cynthia Harvey-Pryor,
Department Clearance Officer, Office of Privacy and Records Management, Department of Veterans Affairs.

[FR Doc. 2017-01144 Filed 1-18-17; 8:45 am]

BILLING CODE 8320-01-P